FEDERAL ELECTION COMMISSION

11 CFR Part 112

[Notice 2019-01]

Rulemaking Petition: Advisory Opinion Procedures; Extension of Comment Period

AGENCY: Federal Election Commission.

ACTION: Extension of comment period.

SUMMARY: On January 31, 2019, the Federal Election Commission extended the comment period on the Notification of Availability for the Rulemaking Petition: Advisory Opinion Procedures, which sought comment on whether to begin a rulemaking to establish specific time periods for the submission of public comments on drafts of advisory opinions. The Commission has decided to extend the comment period in light of the recent partial government shutdown.

DATES: The comment period for the NOA published December 3, 2018 (83 FR 62283) is extended. Comments must be received on or before March 4, 2019.

ADDRESSES: All comments must be in writing. Commenters are encouraged to submit comments electronically via the Commission's website at www.fec.gov/netdisclaimers or at http://www.fec.gov/fosers, reference REG 2016-01. Alternatively, commenters may submit comments in paper form, addressed to the Federal Election Commission, Attn.: Robert M. Knop, Assistant General Counsel, 1050 1st Street NE, Washington, DC 20463.

Each commenter must provide, at a minimum, his or her first name, last name, city and state. All properly submitted comments, including attachments, will become part of the public record, and the Commission will make comments available for public viewing on the Commission's website and in the Commission's Public Records Office. Accordingly, commenters should not provide in their comments any information that they do not wish to make public, such as a home street address, personal email address, date of birth, phone number, social security number, driver's license number, or any information that is restricted from disclosure, such as trade secrets or commercial or financial information that is privileged or confidential.

FOR FURTHER INFORMATION CONTACT: Mr. Robert M. Knop, Assistant General Counsel, or Ms. Cheryl Hemsley, Attorney, at 1050 1st Street NE, Washington, DC 20463, (202) 694-1650 or (800) 424-9530.

SUPPLEMENTARY INFORMATION: On December 3, 2018, the Commission opened the comment period on a Notification of Availability published in the Federal Register seeking comment on whether to revise the rules at 11 CFR part 112 to establish specific time periods for the submission of public comments on drafts of advisory opinions. The comment period was scheduled to close at 11:59 p.m. on February 1, 2019, however, in light of the partial government shutdown, the Commission has determined to extend the comment period to close at 11:59 p.m. on March 4, 2019.

Dated: January 31, 2019.
On behalf of the Commission,
Ellen L. Weintraub,
Chair, Federal Election Commission.

[FR Doc. 2019-01192 Filed 2-5-19; 8:45 am]

BILLING CODE 6715-01-P